DEPARTMENT OF THE INTERIOR

Bureau of Reclamation

Agency Information Collection Activities Under OMB Review; Proposed New Information Collection

AGENCY: Bureau of Reclamation, Interior.

ACTION: Notice of proposed new information collection.

SUMMARY: In accordance with the Paperwork Reduction Act of 1995 (44 U.S.C. 3501 et seq.), this notice announces the following Information Collection Request (ICR) has been forwarded to the Office of Management and Budget (OMB) for review and comment: Limited Recipient Identification Sheet, Trust Information Sheet for Acreage Limitation, 43 CFR part 426. The ICR describes the nature of the information collection and its expected cost and burden.

DATES: Your comments must be received on or before June 4, 2001.

ADDRESSES: You may send comments regarding the burden estimate, or any other aspect of the information collection, including suggestions for reducing the burden, to the Office of Information and Regulatory Affairs, Office of Management and Budget, Attention: Desk Officer for the Department of the Interior, 725 17th Street, NW., Washington DC 20503. A copy of your comments should also be directed to the Bureau of Reclamation, Attention: D-5200, P.O. Box 25007, Denver, CO 80225-0007.

FOR FURTHER INFORMATION CONTACT: For further information or a copy of the proposed forms contact Stephanie McPhee, D-5200, P.O. Box 25007, Denver, CO 80225-0007; or by telephone: (303) 445-2897.

SUPPLEMENTARY INFORMATION: Title: Limited Recipient Identification Sheet, Trust Information Sheet for Acreage Limitation, 43 CFR part 426.

Abstract: Identification of limited recipients.

Some entities that receive Reclamation irrigation water may believe themselves to be under the Reclamation Reform Act of 1982 (RRA) forms submittal threshold and consequently, may not submit the appropriate RRA form(s). However, some of these entities may in fact have a different RRA forms submittal threshold than what they believe it to be due to the number of natural persons benefitting from each entity and the location of the land held by each entity. In addition, some entities that are exempt from the requirement to submit RRA forms due to the size of their landholdings may in fact be receiving Reclamation irrigation water for which the full-cost rate must be paid because the start of Reclamation irrigation water deliveries occurred after October 1, 1981 (43 CFR 426.6(b)(2)). The information obtained through completion of the Limited Recipient Identification Sheet allows us to establish entities' compliance with Federal reclamation law. The proposed Limited Recipient Identification Sheet will be disbursed at our discretion.

Trust Review

We are required to review and approve all trusts (43 CFR part 426.7(b)(2)) in order to ensure trusts meet the regulatory criteria specified in 43 CFR part 426.7. Land held in trust generally will be attributed to the beneficiaries of the trust rather than the trustee if the criteria are met. When we become aware of trusts with a relatively small landholding (40 acres or less), we may extend to those trusts the option to complete and submit for our review the proposed Trust Information Sheet instead of actual trust documents. If we find nothing on the completed, proposed Trust Information Sheet that would warrant the further investigation of a particular trust, that trustee will not be burdened with submitting trust documents to us for in-depth review.

Changes to the RRA Forms and the Instructions to Those Forms

We made no changes (other than typographical changes) from the version of these forms offered in conjunction with the 60-day comment period initiated by the Federal Register notice published on January 3, 2001 (66 FR 385, Jan. 3, 2001). The proposed new forms will be effective in the 2002 water year.

Frequency: Generally, these forms will be submitted once per identified entity or trust. Each year, we expect new responses in accordance with the following numbers.

Respondents: Entity landholders and trusts identified by Reclamation that are subject to the acreage limitation provisions of Federal reclamation law.

Estimated Total Number of Respondents: 1,105.

Estimated Number of Responses per Respondent: 1.00.

Estimated Total Number of Annual Responses: 1,105.

Estimated Total Annual Burden on Respondents: 92 hours.

Estimate of Burden for Each Form:

Form No. | Estimated No. of respondents | Frequency of response | Total annual responses | Burden estimate per form (in minutes) | Total burden hours
Limited Recipient Identification Sheet | 635 | 1.00 | 635 | 5 | 53
Trust Information Sheet | 470 | 1.00 | 470 | 5 | 39
Total | 1,105 | 1.00 | 1,105 |  | 92

Comments

Comments are invited on:

(a) Whether the proposed collection of information is necessary for the proper performance of our functions, including whether the information will have practical use;

(b) The accuracy of our burden estimate for the proposed collection of information;

(c) Ways to enhance the quality, usefulness, and clarity of the information to be collected; and

(d) Ways to minimize the burden of the collection of information on respondents, including the use of automated collection techniques or other forms of information technology.

An agency may not conduct or sponsor, and a person is not required to respond to a collection of information unless it displays a currently valid OMB control number. Reclamation will display a valid OMB control number on the “Limited Recipient Identification Sheet” and the “Trust Information Sheet.” A Federal Register notice with a 60-day comment period soliciting comments on this collection of information was published in the Federal Register on January 3, 2001 (66 FR 385, Jan. 3, 2001). A list of the comments received and our responses to those comments will be sent to: (1) All districts, (2) all commenters, and (3) OMB with this ICR; it is also available from us upon request.

OMB has up to 60 days to approve or disapprove this information collection, but may respond after 30 days; therefore, public comment should be submitted to OMB within 30 days in order to assure maximum consideration.

Dated: April 27, 2001.
Wayne O. Deason,
Associate Director, Office of Policy.

[FR Doc. 01-11195 Filed 5-3-01; 8:45 am]

BILLING CODE 4310-MN-P